DEPARTMENT OF THE TREASURY

Internal Revenue Service

26 CFR Part 1

[TD 9941]

RIN 1545-BO68 and 1545-BO78

Taxable Year of Income Inclusion Under an Accrual Method of Accounting and Advance Payments for Goods, Services, and Other Items

Correction

In rule document 2020-28563 beginning on page 810 in the issue of Wednesday, January 6, 2021, make the following correction:

On page 810, in the DATES section, in the second line beneath the heading, “December 31, 2021” should read “December 31, 2020”.

[FR Doc. C1-2020-28653 Filed 1-6-21; 1:15 pm]

BILLING CODE 1301-00-D